COMMITTEE FOR PURCHASE FROM PEOPLE WHO ARE BLIND OR SEVERELY DISABLED

Procurement List; Additions and Deletions

AGENCY: Committee for Purchase From People Who are Blind or Severely Disabled.

ACTION: Additions to and Deletions from Procurement List.

SUMMARY: This action adds to the Procurement List a product and services to be furnished by nonprofit agencies employing persons who are blind or have other severe disabilities, and deletes from the Procurement List services previously furnished by such agencies.

DATES: Effective Date: June 19, 2005.

ADDRESSES: Committee for Purchase From People Who Are Blind or Severely Disabled, Jefferson Plaza 2, Suite 10800, 1421 Jefferson Davis Highway, Arlington, Virginia 22202-3259.

For Further Information Or To Submit Comments Contact: Sheryl D. Kennerly, Telephone: (703) 603-7740, Fax: (703) 603-0655, or e-mail SKennerly@jwod.gov.

SUPPLEMENTARY INFORMATION:

Additions

On December 10, 2004, February 4, and March 25, 2005, the Committee for Purchase From People Who Are Blind or Severely Disabled published notice (69 FR 71777/78, 70 FR 5963, and 15288) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

The following comments pertain to Vegetable Oil (Domestic) 10% of USDA Requirement:

Comments were received from one of the current contractors for this vegetable oil. The commenter also provided comments on an earlier version of this proposed addition to the Procurement List, notice of which appeared in the December 10, 2004 Federal Register (69 FR 71777), and on an earlier unpublished version of the proposed addition. The commenter in its most recent comments asked the Committee for Purchase From People Who Are Blind or Severely Disabled to consider all of these previous comments to the extent they remain applicable. The Committee considered these earlier comments as they were intended, and reduced or clarified the quantities being proposed for addition to the Procurement List at the two stages of the addition process to which the earlier comments applied.

The commenter claimed in its most recent comments that this proposed addition does not meet the Committee's regulatory requirement that a Procurement List addition create employment for people with severe disabilities because the Committee has not demonstrated that jobs will be created for people who are not currently employed, as opposed to additional hours for the current work force. However, this claim does not accurately reflect the Committee's regulatory requirement, which appears at 41 CFR 51-2.4(a)(1). This regulation provides that a proposed addition to the Procurement List must demonstrate a potential to generate employment for people with severe disabilities. The requirement is stated in this way because until a nonprofit agency actually produces a product in response to Government orders, it is impossible to know with certainty how much labor the production will create, to say nothing of which individuals will perform the labor. In addition, the Committee only requires a nonprofit agency to indicate the quantity of direct labor estimated to be created, not the individuals who will provide it or their current employment status. The nonprofit agency involved in this proposed addition has provided that information concerning the amount of labor that will be created. The nonprofit agency also indicated that this labor includes both new and current employees.

In both current and earlier comments, the commenter has taken issue with the Committee's practice of adding a percentage of the U.S. Department of Agriculture (USDA)'s overall requirement for vegetable oil for domestic programs to the Procurement List. The commenter noted that the various types and package sizes are provided by different contractors. As a result, the commenter claimed, the fact that the designated nonprofit agency will be providing the ten percent of the overall USDA domestic requirement by providing liquid vegetable oil in one-gallon bottles will have a larger impact on contractors providing vegetable oil in this same manner than the percentage would seem to indicate. Specifically, the commenter claimed that this Procurement List addition represents about thirteen percent of the requirement for this oil and package type, and that it is provided by three small businesses.

The Committee begins its assessment of impact on contractors affected by potential Procurement List additions by sending a certified letter to each contractor requesting sales data, and stating that if the contractor does not reply, the Committee will consider the lack of a reply as an indication the contractor does not consider the impact of the potential addition to be severe. For this proposed addition to the Procurement List, the Committee wrote to several current contractors, including the three small businesses identified by the commenter. Two of these businesses responded and provided sales data. This information showed that the value of the proposed addition represents a very small percentage of the sales of these two businesses (less than one percent each). Even when the impact of earlier Procurement List additions on one of the businesses (the commenter), and that company's long history as a supplier of the vegetable oil to USDA is considered, as provided in the Committee's impact assessment regulation, at 41 CFR 51-2.4(a)(4), the impact on any of the contractors USDA identified to the Committee did not rise to the level which the Committee considers to constitute severe adverse impact.

The commenter provided several scenarios under which it claimed impact on various suppliers could be greater, depending on the types of liquid oil which the designated nonprofit provided in its one-gallon bottles, and on possible variations in USDA's contract awards for the part of the domestic vegetable oil not covered by the Procurement List. However, the commenter provided no factual support for these speculations, which involve actions by USDA which are not within the Committee's ability to predict or control by its addition process.

The commenter also claimed other impacts on its business, including plant closures, based on earlier comments reacting to the initial projected addition, which was four times the size of the Procurement List addition the Committee eventually proposed. The response from the other small business to the Committee's request for sales data also based its impact claims on this larger addition plan. The Committee believes that reduction of the proposed addition to its current level will prevent any severe impacts from occurring, as indicated in the above paragraph on impact calculation.

Finally, the commenter claimed that the proposed addition would harm USDA's domestic feeding programs, as the “contracting premium” associated with the Committee's program would limit the amount of food USDA could provide with its current budget. However, USDA has informed the Committee that it supports the proposed addition to the Procurement List of ten percent of its requirement for vegetable oil for domestic programs.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Vegetable Oil (Domestic) 10% of USDA Requirement

NSN: 8945-00-NSH-0002—Vegetable Oil (Domestic) 10% of USDA Requirement

NPA: Advocacy and Resources Corporation, Cookeville, Tennessee

Contracting Activity: USDA, Farm Service Agency, Washington, DC

Services:

Service Type/Location: Custodial Services, Transportation Security Administration, Pittsburgh International Airport, Pittsburgh, Pennsylvania.

NPA: ARC—Allegheny, Pittsburgh, Pennsylvania.

Contracting Activity: GSA, PBS—Pittsburgh, Pittsburgh, Pennsylvania.

Service Type/Location: Custodial Services, Williams Gateway Airport, 6416 Sossamon Road, Mesa, Arizona.

NPA: Goodwill Community Services, Inc., Phoenix, Arizona.

Contracting Activity: Department of Homeland Security, Indianapolis, Indiana.

Service Type/Location: Dormitory Management Services, Department of Homeland Security, Federal Law Enforcement Training Center (Artesia Facility), 1300 W. Richey , Building 25, Artesia, New Mexico.

NPA: Adelante Development Center, Inc., Albuquerque, New Mexico.

Contracting Activity: Department of Homeland Security (FLETC), Artesia, New Mexico.

Service Type/Location: Janitorial/Custodial, Department of Homeland Security, Customs and Border Protection, 700 Maritime Street, Oakland, California.

NPA: The Independent Way, Oakland, California.

Contracting Activity: Department of Homeland Security, Indianapolis, Indiana.

Deletions

On March 25, 2005, the Committee for Purchase From People Who Are Blind or Severely Disabled published notice (70 FR 15288) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial, U.S. Army Reserve Center, New Orleans, 4200 Michaud Boulevard, New Orleans, Louisiana.

NPA: Goodworks, Inc., New Orleans, Louisiana.

Contracting Activity: Department of the Army.

Service Type/Location: Mailroom Operation, New Orleans Strategic Petroleum Reserve (SPR) Site, New Orleans, Louisiana.

NPA: Goodworks, Inc., New Orleans, Louisiana.

Contracting Activity: DnyMcDermott Petroleum Operation Company—Department of Energy.

Sheryl D. Kennerly,
Director, Information Management.

[FR Doc. E5-2542 Filed 5-19-05; 8:45 am]

BILLING CODE 6353-01-P